DEPARTMENT OF LABOR

Employment and Training Administration

[TA-W-59,988]

Smith Die & Mold, Inc., Port Huron, MI; Notice of Termination of Investigation

Pursuant to Section 221 of the Trade Act of 1974, as amended, an investigation was initiated on August 31, 2006 in response to a petition filed by a company official on behalf of workers at Smith Die & Mold Inc., Port Huron, Michigan. The workers at the subject facility produce industrial molds used for injection molded plastic.

The petitioner has requested that the petition be withdrawn. Consequently, the investigation has been terminated.

Signed in Washington, DC, this 10th day of October, 2006.
Richard Church,
Certifying Officer, Division of Trade Adjustment Assistance.

[FR Doc. E6-18228 Filed 10-30-06; 8:45 am]

BILLING CODE 4510-30-P